FEDERAL RESERVE SYSTEM

[Docket No. R-1121]

Draft Guidance for Information Dissemination Quality Guidelines; Availability

AGENCY: Board of Governors of the Federal Reserve System.

ACTION: Notice.

SUMMARY: The Federal Reserve Board (FRB) is announcing the availability of draft guidelines for the public entitled “Ensuring and Maximizing the Quality, Objectivity, Utility, and Integrity of Information Disseminated by the Federal Reserve.” The guidelines can be found on the Federal Reserve Board's public web site, www.FederalReserve.gov. The document is intended to provide guidance to the public on the procedures the agency has in place for reviewing and substantiating the quality of the information that is disseminated. The guidelines also provide a mechanism for affected individuals to provide complaints to the agency. The Federal Reserve's guidelines are being issued pursuant to the Treasury and General Government Appropriations Act for Fiscal Year 2001 (Public Law 106-554, Section 515).

DATES: Submit written or electronic comments on the draft guidance by May 31, 2002.

ADDRESSES: Comments should refer to Docket No. R-1121 and should be mailed to Ms. Jennifer J. Johnson, Secretary, Board of Governors of the Federal Reserve System, 20th Street and Constitution Avenue, NW., Washington, DC 20551. However, because paper mail in the Washington area and at the Board of Governors is subject to delay, please consider submitting your comments by e-mail to regs.comments@federalreserve.gov, or faxing them to the Office of the Secretary at 202-452-3819 or 202-452-3102. Comments addressed to Ms. Johnson may also be delivered to the Board's mail facility in the West Courtyard between 8:45 a.m. and 5:15 p.m., located on 21st Street between Constitution Avenue and C Street, NW. Members of the public may inspect comments in Room MP-500 between 9 a.m. and 5 p.m. on weekdays pursuant to 261.12, except as provided in 261.14, of the Board's Rules Regarding Availability of Information, 12 CFR 261.12 and 261.14.

A copy of the comments may also be submitted to the OMB desk officer for the Board: Alexander T. Hunt, Office of Information and Regulatory Affairs, Office of Management and Budget, New Executive Office Building, Room 3208, Washington, DC 20503.

FOR FURTHER INFORMATION CONTACT: Mary M. West, Federal Reserve Board Clearance Officer (202-452-3829), Division of Research and Statistics, Board of Governors of the Federal Reserve System, Washington, DC 20551. Telecommunications Device for the Deaf (TDD) users may contact 202-263-4869.

Board of Governors of the Federal Reserve System, April 25, 2002.
Margaret McCloskey Shanks,
Assistant Secretary of the Board.

[FR Doc. 02-10678 Filed 4-30-02; 8:45 am]

BILLING CODE 6210-01-P